DEPARTMENT OF HOUSING AND URBAN DEVELOPMENT

[Docket No. FR-5484-N-13]

Notice of Proposed Information Collection: Comment Request; Emergency Homeowners' Loan Program Data Elements

AGENCY: Office of the Assistant Secretary for Housing-Federal Housing Commissioner, HUD.

ACTION: Notice of proposed information collection.

SUMMARY: The proposed information collection requirement described below will be submitted to the Office of Management and Budget (OMB) for review, as required by the Paperwork Reduction Act. The Department is soliciting public comments on the subject proposal.

DATES: Comments Due Date: June 24, 2011.

ADDRESSES: Interested persons are invited to submit comments regarding this proposal. Comments must be received within sixty (60) days from the date of this Notice. Comments should refer to the proposal by name/or OMB Control Number and should be sent to: Reports Liaison Officer, Department of Housing and Urban Development, 451 7th Street SW., Washington, DC 20410, Room 9120 or the number for the Federal Information Relay Service (1-800-877-8339).

FOR FURTHER INFORMATION CONTACT: Karin Hill, Director, Office of Single Family Housing, Program Development, U.S Department of Housing and Urban Development, 451 7th Street, SW., Washington, DC 20410, Room 9278, telephone (202) 402-2307. (This is not a toll-free number). Copies of the proposed forms and other available documents submitted to OMB may be obtained from Ms. Hill.

SUPPLEMENTARY INFORMATION: The Department is submitting the proposed information collection to OMB for review, as required by the Paperwork Reduction Act of 1995 (44 U.S.C Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Emergency Homeowners' Loan Program Data Elements.

OMB Control Number, if applicable: 2502-0597.

Description of the need for the information and proposed use: This information collection is necessary to determine applicant eligibility to receive mortgage relief assistance under the Emergency Homeowners' Loan Program. This Notice informs the public that the U.S. Department of Housing and Urban Development (HUD) has submitted to OMB, an information collection package with respect to implementing the Emergency Homeowners' Loan Program targeted to borrowers facing foreclosure.

The Dodd-Frank Wall Street Reform and Consumer Protection Act, 2010 (Pub. L. 111-203, approved July 21, 2010, Sec 1496) appropriated $1billion to HUD to establish an Emergency Homeowner's Relief Fund, pursuant to section 107 of the Emergency Housing Act of 1975, that will provide emergency mortgage assistance to homeowners that are at risk of foreclosure due to involuntary unemployment or underemployment due to an adverse economic or medical condition. Accordingly, HUD is implementing the Emergency Homeowners Loan Program (EHLP) that is designed to offer a declining balance, deferred payment “bridge loan” (non-recourse, subordinate loan with zero interest) for up to $50,000 to assist eligible homeowners with payments of arrearages, including delinquent taxes and insurance. Additionally, EHLP maybe used to assist eligible homeowners with up to 24 months of monthly payments on their mortgage principal, interest, mortgage insurance premiums, taxes, and hazard insurance. Assistance will not exceed $50,000 per eligible homeowner.

HUD will use two approaches to implement EHLP: (1) Provide allocations to States that currently have substantially similar programs to administer their mortgage relief funds directly; and (2) delegate key administrative functions to third party entities that will assist HUD with program implementation. The third party entities will be primarily responsible for application intake, eligibility screening, funds control, payment distribution, and note processing.

Homeowners'(borrowers') participation in the program is voluntary. However, to help determine eligibility for assistance borrowers must submit the required application information and loan documentation to demonstrate that they meet program eligibility guidelines to receive mortgage relief assistance through EHLP.

Agency form numbers, if applicable: None.

Estimation of the total numbers of hours needed to prepare the information collection including number of respondents, frequency of response, and hours of response: The total number of respondents are estimated to be 36,264; the frequency of response (one time) for initial intake and an on-occasion response to re-certify changes in required eligibility data, the estimated time needed to prepare the response averages 3 hours ; and the total estimated annual burden hours are 108,792.

Status of the proposed information collection: This is an extension of a currently approved collection.

Authority: The Paperwork Reduction Act of 1995, 44 U.S.C., Chapter 35, as amended.

Dated: April 20, 2011.
Ronald Y. Spraker,
Associate General Deputy Assistant Secretary for Housing.

[FR Doc. 2011-9953 Filed 4-22-11; 8:45 am]

BILLING CODE 4210-72-P